DEPARTMENT OF HEALTH AND HUMAN SERVICES

Intent To Award a Sole Source Supplement to the Christopher and Dana Reeve Foundation

AGENCY: Administration for Community Living.

ACTION: Notice of intent to award a sole source supplement to the Christopher and Dana Reeve Foundation.

SUMMARY: The Administration for Community Living (ACL) is announcing the award of supplemental funding for the National Paralysis Resource Center (PRC) that was included in the 2016 Congressional budget appropriations. The National Paralysis Resource Center is operated by the Christopher and Dana Reeve Foundation, which offers important programmatic opportunities for persons with disabilities and older adults. The PRC provides comprehensive information for people living with spinal cord injury, paralysis, and mobility-related disabilities and their families. Resources include information and referral by phone and email in multiple languages including English and Spanish; a peer and family support mentoring program; a military and veterans program; multicultural outreach services; free lending library; quality of life grants; and a national Web site.

Program Name: National Paralysis Resource Center.

Award Amount: $976,580.

Award Type: Cooperative Agreement.

DATES: The award will be issued for a project period of June 1, 2016 through May 31, 2017.

Statutory Authority: This program is authorized under Section 317 of the Public Health Service Act (42 U.S.C. 247(b-4)); Consolidated and Further Continuing Appropriations Act, 2016, Public Law 114-113 (Dec. 18, 2015). CFDA Number: 93.325 Discretionary Projects.

FOR FURTHER INFORMATION CONTACT: Elizabeth Leef, U.S. Department of Health and Human Services, Administration for Community Living, Independent Living Administration, 330 C Street SW., Washington, DC 20201; telephone 202-475-2482.

SUPPLEMENTARY INFORMATION: The purpose of the supplemental funding is to support the expansion a national Paralysis Resource Center to improve the health and quality of life of individuals living with paralysis and their families by raising awareness of and facilitating access to a broad range of services relevant to individuals with paralysis. This supplemental funding will be used to enhance the PRCs ability to improve performance & evaluation, to collaborate with others organizations and or agencies vested in paralysis to transition people living with paralysis from institutional settings into community living or higher education, and to increase grant opportunities that serve people living with paralysis, their caregivers, and families. With the additional funding, the PRC will work to expand the National Resource and Information Center; increase the health and quality of life of Americans with disabilities living with paralysis; increase support and resources to people with paralysis, their families and caregivers; expand collaboration with federal agencies and other national organizations that have a vested interested in the paralysis community; and strengthen performance measures. This supplemental funding will be made available this fiscal year and in each fiscal year that Congress appropriates additional funding above the current funding level of this existing grant project.

Dated: June 28, 2016.
Kathy Greenlee,
Administrator and Assistant Secretary for Aging.

[FR Doc. 2016-15853 Filed 7-1-16; 8:45 am]

BILLING CODE 4154-01-P